DEPARTMENT OF ENERGY

Federal Energy Regulatory Commission

Sunshine Act Meeting; Notice

January 15, 2004.

The following Notice of Meeting is Published Pursuant to Section 3(a) of the Government in the Sunshine Act (Pub. L. 94-409), 5 U.S.C. 552b:

AGENCY: Federal Energy Regulatory Commission.

Date and Time: January 22, 2004, 10 a.m.

Place: Room 2C, 888 First Street, NE., Washington, DC 20426

Status: Open.

Matters to be Considered: Agenda.

*Note: Items Listed on the Agenda May be Deleted Without Further Notice.

FOR FURTHER INFORMATION CONTACT: Magalie R. Salas, Secretary, Telephone (202) 502-8400, For a Recording Listing Items Stricken from or Added to the Meeting, Call (202) 502-8627.

This is a list of matters to be considered by the Commission. It does not include a listing of all papers relevant to the items on the Agenda; however, all public documents may be examined in the Reference and Information Center.

848th—Meeting January 22, 2004

Regular Meeting 10 a.m.

Administrative Agenda

A-1.

Docket#, AD02-1, 000, Agency Administrative Matters

A-2.

Docket#, AD02-7, 000, Customer Matters, Reliability, Security and Market Operations

A-3.

Docket#, MO04-2, 000, State of the Markets Report

Markets, Tariffs and Rates—Electric

E-1.

Docket#, EL03-137, 001, American Electric Power Service Corporation

Other#s, EL03-138, 001, Aquila Merchant Services, Inc. (f/k/a Aquila, Inc.)

EL03-139, 001, Arizona Public Service Company

EL03-140, 001, Automated Power Exchange, Inc.

EL03-141, 001, Bonneville Power Administration

EL03-142, 001, California Department of Water Resources

EL03-143, 001, California Power Exchange Corporation

EL03-144, 001, Cargill-Alliant, LLC

EL03-145, 001, City of Anaheim, California

EL03-146, 001, City of Azusa, California

EL03-147, 001, City of Glendale, California

EL03-148, 001, City of Pasadena, California

EL03-149, 001, City of Redding, California

EL03-150, 001, City of Riverside, California

EL03-151, 001, Coral Power, LLC

EL03-152, 001, Duke Energy Trading and Marketing Company

EL03-153, 001, Dynegy Power Marketing, Inc., Dynegy Power Corp., El Segundo Power LLC, Long Beach Generation LLC, Cabrillo Power I LLC, and Cabrillo Power II LLC

EL03-154, 001, Enron Power Marketing, Inc., and Enron Energy Services Inc.

EL03-155, 001, FPL Energy

EL03-156, 001, Idaho Power Company

EL03-157, 001, Los Angeles Department of Water and Power

EL03-158, 001, Mirant Americas Energy Marketing, LP, Mirant California, LLC, Mirant Delta, LLC, and Mirant Potrero, LLC

EL03-159, 001, Modesto Irrigation District

EL03-160, 001, Morgan Stanley Capital Group

EL03-161, 001, Northern California Power Agency

EL03-162, 001, Pacific Gas and Electric Company

EL03-163, 001, PacifiCorp

EL03-164, 001, PGE Energy Services

EL03-165, 001, Portland General Electric Company

EL03-166, 001, Powerex Corporation (f/k/a British Columbia Power Exchange Corp.)

EL03-167, 001, Public Service Company of Colorado

EL03-168, 001, Public Service Company of New Mexico

EL03-169, 001, Puget Sound Energy, Inc.

EL03-170, 001, Reliant Resources, Inc., Reliant Energy Power Generation, and Reliant Energy Services, Inc.

EL03-171, 001, Salt River Project Agricultural Improvement and Power District

EL03-172, 001, San Diego Gas & Electric Company

EL03-173, 001, Sempra Energy Trading Corporation

EL03-174, 001, Sierra Pacific Power Company

EL03-175, 001, Southern California Edison Company

EL03-176, 001, TransAlta Energy Marketing (U.S.) Inc., and TransAlta Energy Marketing (California), Inc.

EL03-177, 001, Tucson Electric Power Company

EL03-178, 001, Western Area Power Administration

EL03-179, 001, Williams Energy Services Corporation

EL03-180, 001, Enron Power Marketing, Inc., and Enron Energy Services Inc.

EL03-181, 001, Aquila, Merchant Services, Inc. (f/k/a Aquila, Inc.)

EL03-182, 001, City of Redding, California

EL03-183, 001, City of Glendale, California

EL03-184, 001, Colorado River Commission of Nevada

EL03-185, 001, Constellation Power Source, Inc

EL03-186, 001, Coral Power, LLC

EL03-187, 001, El Paso Merchant Energy, L.P.

EL03-188, 001, Eugene Water and Electric Board

EL03-189, 001, Idaho Power Company

EL03-190, 001, Koch Energy Trading, Inc.

EL03-191, 001, Las Vegas Cogeneration L.P.

EL03-192, 001, MIECO Inc.

EL03-193, 001, Modesto Irrigation District

EL03-194, 001, Montana Power Company (now d/b/a NorthWestern Energy, LLC)

EL03-195, 001, Morgan Stanley Capital Group

EL03-196, 001, Northern California Power Agency

EL03-197, 001, PPM Energy, Inc. (f/k/a PacificCorp Power Marketing, Inc.)

EL03-198, 001, PECO Energy Company

EL03-199, 001, Powerex Corporation (f/k/a British Columbia Power Exchange Corporation)

EL03-200, 001, Public Service Company of New Mexico

EL03-201, 001, Sempra Energy Trading Corporation

EL03-202, 001, TransAlta Energy Marketing (U.S.) Inc., and TransAlta Energy Marketing (California), Inc.

EL03-203, 001, Valley Electric Association, Inc.

E-2.

Docket#, EL03-139 000 Arizona Public Service Company

Other#s, EL03-140 000 Automated Power Exchange, Inc.

EL03-141, 000, Bonneville Power Administration

EL03-142, 000, California Department of Water Resources

EL03-143, 000, California Power Exchange

EL03-144, 000, Cargill-Alliant, LLC

EL03-145, 000, City of Anaheim, California

EL03-146, 000, City of Azusa, California

EL03-148, 000, City of Pasadena, California

EL03-150, 000, City of Riverside, California

EL03-155, 000, FPL Energy

EL03-157, 000, Los Angeles Department of Water and Power

EL03-161, 000, Northern California Power Agency

EL03-162, 000, Pacific Gas and Electric Company

EL03-164, 000, PGE Energy Services

EL03-167, 000, Public Service Company of Colorado

EL03-168, 000, Public Service Company of New Mexico

EL03-171, 000, Salt River Project Agricultural Improvement and Power District

EL03-174, 000, Sierra Pacific Power Company

EL03-175, 000, Southern California Edison Company

EL03-176, 000, TransAlta Energy Marketing (U.S.) Inc., and TransAlta Energy Marketing (California) Inc.

EL03-177, 000, Tucson Electric Power Company

EL03-178, 000, Western Area Power Administration

E-3.

Docket#, EL03-184, 000, Colorado River Commission of Nevada

Other#s, EL03-185, 000, Constellation Power Source, Inc.

EL03-187, 000, El Paso Merchant Energy, L.P.

EL03-188, 000, Eugene Water & Electric Board

EL03-189, 000, Idaho Power Company

EL03-190, 000, Koch Energy Trading, Inc.

EL03-192, 000, MIECO, Inc.

EL03-197, 000, PPM Energy, Inc. (f/k/a PacifiCorp Power Marketing, Inc.)

EL03-201, 000, Sempra Energy Trading Corporation

EL03-202, 000, TransAlta Energy Marketing (U.S.) Inc. and TransAlta Energy Marketing (California) Inc.

E-4.

Docket#, EL03-149, 000, City of Redding, California

Other#s, EL03-182, 000, City of Redding, California

E-5.

Docket#, ER04-207, 000, Entergy Services, Inc.

Other#s, ER04-207, 001, Entergy Services, Inc.

E-6.

Docket#, ER04-227, 000, Mirant Delta LLC and Mirant Potrero, LLC

E-7.

Docket#, ER03-1312, 000, Midwest Independent Transmission System Operator, Inc.

Other#s, ER03-1312, 001, Midwest Independent Transmission System Operator, Inc.

E-8.

Docket#, ER04-110, 000, New England Power Pool

E-9.

Docket#, ER04-158, 000, Midwest Independent Transmission System Operator, Inc.

E-10.

Docket#, ER03-94, 000, Pacific Gas and Electric Company

Other#s, ER03-299, 000, Pacific Gas and Electric Company

E-11.

Docket#, ER02-2330, 018, ISO New England Inc.

E-12.

Docket#, RT04-1, 000, Southwest Power Pool, Inc.

Other#s, ER04-48, 000, Southwest Power Pool, Inc.

E-13.

Docket#, ER02-2330, 019, New England Power Pool and ISO New England, Inc.

E-14.

Omitted

E-15.

Docket#, ER03-1221, 002, California Independent System Operator Corporation

E-16.

Omitted

E-17.

Omitted

E-18.

Omitted

E-19.

Omitted

E-20.

Docket#, ER03-406, 001, PJM Interconnection L.L.C.

Other#s, ER03-406, 002, PJM Interconnection L.L.C.

ER03-406, 003, PJM Interconnection L.L.C.

E-21.

Docket#, ER01-313, 003, California Independent System Operator Corporation

Other#s, ER01-424, 003, Pacific Gas and Electric Company

EL03-131, 000, San Diego Gas & Electric Company v. California Independent System Operator Corporation

E-22.

Docket#, EL03-77, 001, Enron Power Marketing, Inc. and Enron Energy Services, Inc.

Other#s, RP03-311, 001, Bridgeline Gas Marketing L.L.C., Citrus Trading Corporation, ENA Upstream Company, LLC, Enron Canada Corp., Enron Compression Services Company, Enron Energy Services, Inc., Enron MW, L.L.C., and Enron North America Corp.

E-23.

Omitted

E-24.

Docket#, RM01-8, 004, Revised Public Utility Filing Requirements

E-25.

Omitted

E-26.

Docket#, ER03-1328, 001, Sierra Pacific Resources Operating Companies

E-27.

Docket#, ER03-1003, 001, Michigan Electric Transmission Company, LLC

E-28.

Docket#, EL04-19, 000, Pacific Gas and Electric Company

E-29.

Omitted

E-30.

Docket#, EL04-28, 000, California Power Exchange Corporation

E-31.

Docket#, EL04-11, 000, Californians for Renewable Energy, Inc. v. Calpine Energy Services, L.P. and the California Department of Water Resources

E-32.

Docket#, EL03-137, 000, American Electric Power Service Corporation

E-33.

Docket#, EL03-169, 000, Puget Sound Energy, Inc.

E-34.

Docket#, EL03-179, 000, Williams Energy Services Corporation

E-35.

Docket#, EL03-172, 000, San Diego Gas & Electric Company

E-36.

Docket#, SC00-1, 001, Montana Power Company

E-37.

Docket#, EL03-47, 000, Investigation of Certain Enron-Affiliated QF's

Other#s QF89-251, 008, Las Vegas Cogeneration Limited Partnership

E-38.

Docket#, ER00-565, 008, Pacific Gas and Electric Company

E-39.

Docket#, IN03-10, 003, Investigation of Anomalous Bidding Behavior and Practices in the Western Markets

E-40.

Docket#, EL02-126, 000, City of Corona, California v. Southern California Edison Company

E-41.

Omitted

E-42.

Omitted

E-43.

Docket#, ER01-1763, 000, Duke Energy Corporation (Duke Electric Transmission)

E-44.

Docket#, ER04-242, 000, Pacific Gas and Electric Company

Other#s EL04-50, 000, Pacific Gas and Electric Company

ER04-115, 000, California Independent System Operator Corporation

ER04-47, 000, California Independent System Operator Corporation

E-45.

Docket#, ER02-2119, 000, Southern California Edison Company

Markets, Tariffs and Rates—Gas

G-1.

Docket#, RP03-162, 007, Trailblazer Pipeline Company

G-2.

Docket#, RP04-61, 000, El Paso Natural Gas Company

G-3.

Docket#, RP03-489, 000, Vector Pipeline L.P.

G-4.

Docket#, RP03-200, 000, Enbridge Pipelines (Midla) L.L.C.

G-5.

Docket#, RP98-40, 000, Panhandle Eastern Pipe Line Co.

Other#s GP98-6, 000, Anadarko Petroleum Corp.

GP98-7, 000, OXY USA Inc.

GP98-32, 000, Anadarko Production Co.

G-6.

Docket#, PR03-17, 000, Unocal Keystone Gas Storage, LLC

G-7.

Omitted

G-8.

Docket#, RP00-336 014, El Paso Natural Gas Company

Other#s, RP00-336, 019, El Paso Natural Gas Company

G-9.

Omitted

G-10.

Docket#, RP01-223, 001, National Association of Gas Consumers v. All Sellers of Natural Gas in the United States of America in Interstate Commerce

G-11.

Omitted

G-12.

Docket#, RP00-474, 005, Maritimes & Northeast Pipeline, L.L.C.

Other#s, RP00-474, 006, Maritimes & Northeast Pipeline, L.L.C.

RP00-474, 004, Maritimes & Northeast Pipeline, L.L.C.

RP00-474, 003, Maritimes & Northeast Pipeline, L.L.C.

RP01-17, 006, Maritimes & Northeast Pipeline, L.L.C.

RP01-17, 007, Maritimes & Northeast Pipeline, L.L.C.

RP01-17, 008, Maritimes & Northeast Pipeline, L.L.C.

RP03-174, 001, Maritimes & Northeast Pipeline, L.L.C.

RP03-174, 002, Maritimes & Northeast Pipeline, L.L.C.

RP03-174, 003, Maritimes & Northeast Pipeline, L.L.C.

G-13.

Docket#, RM98-10, 012, Regulation of Short-Term Natural Gas Transportation Services, and Regulation of Interstate Natural Gas Transportation Services

G-14.

Docket#, RP99-480, 005, Texas Eastern Transmission, LP

Other#s, RP99-480, 006, Texas Eastern Transmission, LP

G-15.

Docket#, PR02-10, 003, Enogex Inc.

Other#s, PR02-10, 002, Enogex Inc.

G-16.

Omitted

G-17.

Docket#, RP04-33, 000, East of California Shippers v. El Paso Natural Gas Company

G-18.

Docket#, RP04-98, 000, Indicated Shippers v. Columbia Gulf Transmission Company

Other#s, RP04-99, 000, Indicated Shippers v. Tennessee Gas Pipeline Company

G-19.

Docket#, GP92-11, 000, ANR Pipeline Company

G-20.

Docket#, RP98-39, 033, Northern Natural Gas Company

G-21.

Docket#, RP98-52, 049, Southern Star Central Gas Pipeline, Inc.

Other#s, GP98-3, 000, OXY USA, Inc.

GP98-4, 000, Amoco Production Co.

GP98-13, 000, ExxonMobil

GP98-16, 000, Union Pacific Resources Co.

SA98-33, 000, Pioneer Natural Resources USA, Inc.

G-22.

Docket#, RP98-52, 048, Southern Star Central Gas Pipeline, Inc.

Other#s, GP98-3, 002, OXY USA, Inc.

GP98-4, 005, Amoco Production Co.

GP98-13, 005, ExxonMobil

GP98-16, 005, Union Pacific Resources Inc.

SA98-33, 003, Pioneer Natural Resources USA, Inc.

G-23.

Omitted

G-24.

Omitted

G-25.

Docket# RP04-119, 000, Dominion Transmission, Inc.

Energy Projects—Hydro

H-1.

Docket#, RM02-16, 001, Hydroelectric Licensing under the Federal Power Act

H-2.

Docket#, P-77, 110, Pacific Gas and Electric Company

H-3.

Docket#, P-2897, 005, S. D. Warren Company

Other#s, P-2931, 004, S. D. Warren Company

P-2932, 006, S. D. Warren Company

P-2941, 004, S. D. Warren Company

P-2942, 007, S. D. Warren Company

H-4.

Docket#, P-2413, 058, Georgia Power Company

H-5.

Docket#, P-4656, 016, Boise-Kuna Irrigation District, Nampa & Meridian Irrigation District, Wilder Irrigation District, and Big Bend Irrigation District

H-6.

Docket#, P-516, 319, South Carolina Electric & Gas Company

Other#s, P-516, 321, South Carolina Electric & Gas Company

P-516, 326, South Carolina Electric & Gas Company

P-516, 329, South Carolina Electric & Gas Company

P-516, 330, South Carolina Electric & Gas Company

P-516, 331, South Carolina Electric & Gas Company

P-516, 332, South Carolina Electric & Gas Company

P-516, 333, South Carolina Electric & Gas Company

P-516, 354, South Carolina Electric & Gas Company

P-516, 355, South Carolina Electric & Gas Company

P-516, 356, South Carolina Electric & Gas Company

P-516, 357, South Carolina Electric & Gas Company

P-516, 358, South Carolina Electric & Gas Company

P-516, 359, South Carolina Electric & Gas Company

H-7.

Docket#, P-2552, 058, FPL Energy Maine Hydro, LLC

Other#s, P-2552, 063, FPL Energy Maine Hydro, LLC

Energy Projects—Certificates

C-1.

Docket#, CP03-335, 000, Calpine Corporation and Otay Mesa Generating Company, LLC

C-2.

Docket#, CP02-430, 003, Saltville Gas Storage Company, L.L.C.

C-3.

Docket#, CP03-323, 001, Pinnacle Pipeline Company

Other#s, CP03-324, 001, Pinnacle Pipeline Company

CP03-325, 001, Pinnacle Pipeline Company

C-4.

Docket#, CP02-90,000, AES Ocean Express LLC

Other#s, CP02-90,001, AES Ocean Express LLC

CP02-91, 000, AES Ocean Express LLC

CP02-92, 000, AES Ocean Express LLC

CP02-93, 000, AES Ocean Express LLC

CP02-93, 001, AES Ocean Express LLC

Magalie R. Salas,
Secretary.

[FR Doc. 04-1497 Filed 1-20-04; 3:39 pm]

BILLING CODE 6717-01-P